FEDERAL COMMUNICATIONS COMMISSION

47 CFR Part 1

[DA 02-494]

FCC Registration Number Rules

AGENCY: Federal Communications Commission.

ACTION: Final rule.

SUMMARY: On August 31, 2001 the Commission released final rules amending its rules to require persons and entities doing business with the Commission to obtain a unique identifying number called the FCC Registration Number (FRN) and to supply it when doing business with the Commission. The Commission is revising those rules to correct nonsubstantive errors.

DATES: Effective May 28, 2002.

FOR FURTHER INFORMATION CONTACT: Laurence H. Schecker, Office of General Counsel (202) 418-1720.

SUPPLEMENTARY INFORMATION: This order adopted February 29, 2000 revises 47 CFR 1.8002 and 1.8004 to make nonsubstantive, editorial revisions. The Commission's rules are amended as set forth:

Ordering Clause

According, pursuant to § 0.231(b) of the Commission's rules, 47 CFR 0.231(b), that sections 1.8002(b)(1), 1.8004(c), and 1.8004(d) of the Commission's rules, 47 CFR 1.8002(b)(1), 1.8004(c), and 1.8004(d), are AMENDED as set forth in the rule changes.

List of Subjects in 47 CFR Part 1

Practice and procedure.

Federal Communication Commission.
Marlene H. Dortch,
Secretary.

Rule Changes

For the reasons discussed in the preamble, the Federal Communications Commission amends 47 CFR Part 1 as follows:

PART 1—PRACTICE AND PROCEDURE

1. The authority citation for part 1 continues to read as follows:

Authority: 47 U.S.C. 151, 154(i), 154(j), 155, 225, 303(r), 309 and 325(e).

§ 1.8002 [Amended].

2. In § 1.8002(b)(1), remove the words “THE CORES” and add in their place the words “the CORES”.

3. Revise § 1,8004(c) and (d) to read as follows:

§ 1.8004 Penalty for Failure to Provide the FRN.

* * * * *

(c) Where the Commission has not established a filing deadline for an application, a missing or invalid FRN on such an application may be corrected and the application resubmitted. Except as provided in paragraph (d) of this section or in other Commission rules, the date that the resubmitted application is received by the Commission with a valid FRN will be considered the official filing date.

(d) Except for the filing of tariff publications (see 47 CFR 61.1(b)) or as provided in other Commission rules, where the Commission has established a filing deadline for an application and that application may be filed on paper, a missing or invalid FRN on such an application may be corrected with ten (10) business days of notification to the filer by the Commission staff and, in the event of such timely correction, the original date of filing will be retained as the official filing date.

[FR Doc. 02-13226 Filed 5-24-02; 8:45 am]

BILLING CODE 6712-01-P